NATIONAL ARCHIVES AND RECORDS ADMINISTRATION

[NARA-2023-008]

Advisory Committee on the Records of Congress; Meeting

AGENCY: National Archives and Records Administration (NARA).

ACTION: Notice of Federal Advisory Committee meeting.

SUMMARY: We are announcing an upcoming meeting of the Advisory Committee on the Records of Congress in accordance with the Federal Advisory Committee Act. The committee advises NARA on the full range of programs, policies, and plans for the Center for Legislative Archives in the Office of Legislative Archives, Presidential Libraries, and Museum Services (LPM).

DATES: The meeting will be on December 5, 2022, from 10 a.m. to 12 p.m.

ADDRESSES: The meeting will take place at the U.S. Government Publishing Office, Carl Hayden Room (C-808), 732 North Capitol Street NW, Washington, DC 20401.

SUPPLEMENTARY INFORMATION: The meeting is open to the public. Due to restricted access at the U.S. Government Publishing Office, members of the public who wish to attend the Advisory Committee on the Records of Congress meeting are required to register for access to the meeting no later than Monday, November 28, 2022, by emailing the Office of Art and Archives at archives@mail.house.gov with your name and contact information.

Due to building security measures, attendees will be screened before entry and cannot bring certain items into the building.

Screening

• Except those with documented medical conditions, everyone will walk through the stationary magnetometer.

• Prior to entering the metal detector archway, have the entrant remove all metallic carry items in their possession, within their pockets, exterior covering and on their person.

• This includes jewelry of significant bulk, and jewelry capable of triggering an alert that disrupts the flow of pedestrian traffic by putting an undue burden on the security screening process.

Prohibited Items

• Alcoholic Beverages

• Drugs and Drug paraphernalia

• Contraband (Dangerous weapons, e.g., guns, knives, with blades in excess of 2½ inches, flammable liquids, incendiary devices, mace, pepper spray, explosive devices; components, improvised IEDs, billy clubs, brass knuckles, night sticks, etc.)

• Unauthorized Equipment

• Solicitor bills or flyers

• Cellular telephones are authorized into GPO; however, photography is only authorized with prior written consent (from Security Services/Public Relations)

Agenda

(1) Chair's Opening Remarks—Clerk of the U.S. House of Representatives

(2) Recognition of Co-chair—Secretary of the U.S. Senate

(3) Recognition of the Acting Archivist of the United States

(4) Approval of the minutes of the last meeting

(5) House Archivist's report

(6) Senate Archivist's report

(7) Center for Legislative Archives update

(8) Other current issues and new business

Tasha Ford,
Committee Management Officer.

[FR Doc. 2022-25386 Filed 11-21-22; 8:45 am]

BILLING CODE 7515-01-P